DEPARTMENT OF THE INTERIOR

Bureau of Land Management

[WY-030-1310-DB]

Notice of Intent To Prepare an Environmental Impact Statement for the Continental Divide—Creston Natural Gas Project, Carbon and Sweetwater Counties, WY

AGENCY: Bureau of Land Management, Interior.

ACTION: Notice of Intent (NOI) to prepare an Environmental Impact Statement (EIS) and to conduct public scoping for the Continental Divide—Creston Natural Gas Project, Carbon and Sweetwater Counties, Wyoming.

SUMMARY: Under section 102(2)(C) of the National Environmental Policy Act of 1969, as amended (NEPA), the Bureau of Land Management (BLM), Rawlins Field Office, announces its intent to prepare an EIS on the potential impacts of a proposed natural gas development project consisting primarily of conventional natural gas well development with some coalbed natural gas wells.

In April 2005, Devon Energy Corporation (Devon), representing itself and other lease holders, submitted to BLM a proposal to drill and develop up to 1,250 wells from an estimated 1,000 well pads and associated facilities. The Devon proposal was named “Creston/Blue Gap II Natural Gas Project.” The BLM published its NOI to prepare an EIS for this project in the Federal Register on September 8, 2005.

In November 2005, BP America Production Company (BP), representing itself and other lease holders, submitted a proposal to drill and develop up to 7,700 wells and associated facilities within a portion of the Continental Divide/Wamsutter II (CD/W2) Natural Gas Project area adjacent to the Creston/Blue Gap II EIS (CBC2) project area. Upon reviewing BP's proposal the BLM determined that the CD/W2 proposal and the CBC2 proposal were similar actions within the same geographic area, with similar timing. Based on these factors, the BLM has determined that the best way to analyze these actions and identify their cumulative impacts adequately is to treat them in a single impact statement. The combined proposals, henceforth known as the Continental Divide—Creston (CDC) Natural Gas Project, will be considered in one EIS.

DATES: This notice initiates the public scoping process. The BLM can best use public input if comments and resources information are submitted within 60 days of the publication of this notice. To provide the public with an opportunity to review the proposal and project information, the BLM will host a scoping meeting in Rawlins, Wyoming. The BLM will notify the public of the meeting date, time, and location at least 15 days prior to the event. Announcement will be made by news release to the media, individual letter mailings, and posting on the BLM Web site listed below, if it is available.

ADDRESSES: Please send written comments or resource information to the Bureau of Land Management, Rawlins Field Office, Eldon Allison, Team Leader, 1300 North Third Street, Rawlins, Wyoming 82301. Electronic mail may be sent to: rawlins_wymail@blm.gov. The scoping notice will be posted on the Wyoming BLM NEPA Web page at http://www.wy.blm.gov/nepa/nepadocs.htm.

Prior comments submitted in response to the September 8, 2005, NOI for the CBG2 EIS will be considered along with comments received from the CDC EIS scoping. If you have submitted comments in response to the CBG2 EIS and would like to supplement them in light of the combined proposals announced here, the BLM will accept supplemental comments during the public scoping period for CDC Natural Gas Development EIS. In your submittal please note that you have provided comments or resource information during the initial scoping period for the CBG2 EIS.

All responses will be considered in the environmental analysis process. If you do respond, we will keep you informed of decisions resulting from this analysis. Please note that public comments and information submitted regarding this project, including names and email and street addresses of the respondents, will be available for public review and disclosure at the above address during regular business hours (7:45 a.m. to 4:30 p.m.) Monday through Friday, except holidays. Individual respondents may request confidentiality. If you wish to withhold your name, e-mail address, or street address from public review or from disclosure under the Freedom of Information Act, you must state this plainly at the beginning of your written comment. Such requests will be honored to the extent allowed by the law. All submissions from organizations or businesses, and from individuals identifying themselves as representatives or officials of organizations or businesses, will be made available for public inspection in their entirety.

FOR FURTHER INFORMATION CONTACT: Bureau of Land Management, Eldon Allison, Project Manager, 1300 North Third Street, Rawlins, Wyoming 82301. Mr. Allison may also be reached by telephone at (307) 328-4291, or by e-mail to: rawlins_wymail@blm.gov. [?USGPO Galley End:?]

SUPPLEMENTARY INFORMATION: The Continental Divide—Creston Natural Gas Project is located in Townships 14, 15, 16, 17, 18, 19, 20, 21, 22, 23, and 24 North, Ranges 91, 92, 93, 94, 95, 96, 97 and 98 West, Sixth Principal Meridian, Carbon and Sweetwater Counties, Wyoming. The project area is about 25 air miles west of the city of Rawlins, Wyoming and comprises 1.1 million acres of mostly Federal (59 percent) and private (39 percent) surface, with some State land (2 percent). The BLM Rawlins Field Office manages the Federal surface lands and the Federal mineral estate.

The proposed project is further development of natural gas fields previously analyzed for field development under the Continental Divide/Wamsutter II Natural Gas Project (CDW2) EIS and Record of Decision (2000) and the Creston/Blue Gap (CBG) EIS and Record of Decision (1994). Development to date includes 1,805 active wells and 394 plugged and reclaimed wells within the CDW2 area. Currently within the CBG project area, 369 wells are active and 105 wells have been plugged and reclaimed. Existing infrastructure developed for CDW2 and CBG projects approved under previous environmental documents include: Arterial, collector, and well pad roads; compressor stations; connecting and sales pipelines; water wells; and powerlines.

BP America Production Company, the lead applicant representing itself, Devon, and other leaseholders, has proposed drilling and developing about 8,950 natural gas wells, including 100 to 500 coalbed natural gas wells, within the Continental Divide—Creston (CDC) project area. Wells would use a combination of vertical and directional drilling techniques. The proposal calls for a 15-year construction period with a 30 to 40 year life of project development and operational period.

Associated project facilities would include additional roads, gas and water collection pipelines, compressor stations, water disposal systems, and an electrical distribution system. During the preparation of the EIS, any interim development on public lands within the CDC project area will require a detailed environmental review by the BLM.

The purpose of the development is to extract and recover natural gas from the Continental Divide—Creston area for distribution to consumers. This project would help meet the need, goals and objectives of the President's National Energy Plan. Natural gas consumption in the United States is expected to increase by 25% over the next decade.

The EIS will analyze the environmental consequences of implementing the proposed action and alternatives. Identified agency concerns include, but are not limited to direct, indirect and cumulative effects to: Surface and ground water resources; air quality; wildlife populations and their habitats; cultural and paleontological resources; threatened and endangered wildlife and plant species; and local and regional socioeconomics. Other issues of concern include access to private and public land; impacts of road development and transportation to noxious weed control and livestock grazing operations; ability to successfully reclaim disturbed areas.

In addition to the Proposed Action, the EIS will analyze the effects of a No Action alternative. Contents for alternatives being considered include: A range of drilling surface densities; phased development; a range of mitigation measures; and best management practices.

The proposed development is in conformance with the 1990 Great Divide Resource Management Plan (RMP). This RMP is currently being revised under the title Rawlins Resource Management Plan. BLM released the Draft EIS for the Rawlins RMP in December 2004.

Robert A. Bennett,
State Director.

[FR Doc. E6-3043 Filed 3-2-06; 8:45 am]

BILLING CODE 4310-22-P